DEPARTMENT OF HEALTH AND HUMAN SERVICES

Administration for Children and Families

Submission for OMB Review: State Personal Responsibility Education Program (PREP) (OMB #0970-0380)

AGENCY: Family and Youth Services Bureau (FYSB), Administration on Children, Youth and Families (ACYF), Administration for Children and Families (ACF), HHS.

ACTION: Request for public comment.

SUMMARY: The Administration on Children, Youth and Families (ACYF), Family and Youth Services Bureau (FYSB) requires mandatory formula grant applications, state plans, and performance progress reports from states and territories for the development and implementation of their State Personal Responsibility Education Program (PREP). The State PREP Funding Opportunity Announcement sets forth the application and state plan requirements for the receipt of the following documents from applicants and awardees: Application, State Plan, and Performance Progress Report. ACYF/FYSB are requesting a reinstatement with no changes to the previously approved information collections under OMB #0970-0380.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: The purpose of the State PREP is to educate adolescents on both abstinence and contraception to prevent pregnancy and sexually transmitted infections and at least three adulthood preparation subjects. The Application and State Plan will offer information about the proposed state project and will be used as the primary basis to determine whether or not the project meets the minimum requirements for the award.

The Performance Progress Report will inform the monitoring of the grantees' program design, program evaluation, management improvement, service quality, and compliance with agreed upon goals. ACYF/FYSB will use the information to ensure effective service delivery.

Respondents: Fifty states and nine territories, to include the District of Columbia, Puerto Rico, the Virgin Islands, Guam, the Northern Mariana Islands, the Federated States of Micronesia, American Samoa, Marshall Islands, and Palau.

Annual Burden Estimates
Instrument | Total number of respondents | Total number of responses per respondent | Average burden hours per response | Total burden hours | Annual burden hours
Application | 59 | 1 | 24 | 1416 | 472
State Plan | 59 | 3 | 40 | 7080 | 2360
Performance Progress Reports | 59 | 6 | 16 | 5664 | 1888

Estimated Total Annual Burden Hours: 4720.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 30 days of this publication.

Authority: Section 513 of the Social Security Act (42 U.S.C. 713), as amended by Section 50503 of the Bipartisan Budget Act of 2018 (Pub. L. 115-123) extended by Section 2103 of the Continuing Appropriations Act, 2021 and Other Extensions Act (Pub. L. 116-159).

Mary B. Jones,
ACF/OPRE Certifying Officer.

[FR Doc. 2020-25782 Filed 11-20-20; 8:45 am]

BILLING CODE 4184-37-P